DEPARTMENT OF ENERGY

Federal Energy Regulatory Commission

Combined Notice of Filings #2

Take notice that the Commission received the following electric rate filings:

Docket Numbers: ER17-2246-001.

Applicants: Midcontinent Independent System Operator, Inc.

Description: Compliance filing: 2017-11-02_Compliance filing-implementation of regional cost allocation for TMEP to be effective10/4/2017.

Filed Date: 11/2/17.

Accession Number: 20171102-5160.

Comments Due: 5 p.m. ET 11/24/17.

Docket Numbers: ER17-2400-002.

Applicants: SP Butler Solar, LLC.

Description: Tariff Amendment: SP Butler Solar MBR Tariff Amendment Filing to be effective 9/1/2017.

Filed Date: 11/2/17.

Accession Number: 20171102-5204.

Comments Due: 5 p.m. ET 11/24/17.

Docket Numbers: ER17-2401-002.

Applicants: SP Decatur Parkway Solar, LLC.

Description: Tariff Amendment: SP Decatur Parkway Solar MBR Tariff Amendment Filing to be effective 9/1/2017.

Filed Date: 11/2/17.

Accession Number: 20171102-5205.

Comments Due: 5 p.m. ET 11/24/17.

Docket Numbers: ER17-2403-002.

Applicants: SP Pawpaw Solar, LLC.

Description: Tariff Amendment: SP Pawpaw Solar MBR Tariff Amendment Filing to be effective 9/1/2017.

Filed Date: 11/2/17.

Accession Number: 20171102-5206.

Comments Due: 5 p.m. ET 11/24/17.

Docket Numbers: ER17-2404-002.

Applicants: SP Sandhills Solar, LLC.

Description: Tariff Amendment: SP Sandhills Solar MBR Tariff Amendment Filing to be effective 9/1/2017.

Filed Date: 11/2/17.

Accession Number: 20171102-5207.

Comments Due: 5 p.m. ET 11/24/17.

Docket Numbers: ER18-230-000.

Applicants: Gilroy Energy Center, LLC.

Description: Baseline eTariff Filing: Gilroy RMR Agreement Filing to be effective 1/1/2018.

Filed Date: 11/2/17.

Accession Number: 20171102-5142.

Comments Due: 5 p.m. ET 11/24/17.

Docket Numbers: ER18-231-000.

Applicants: American Transmission Systems, Incorporated, PJM Interconnection, L.L.C.

Description: § 205(d) Rate Filing: ATSI submits Engineering and Construction Services Agreement SA No. 4714 to be effective 1/2/2018.

Filed Date: 11/2/17.

Accession Number: 20171102-5146.

Comments Due: 5 p.m. ET 11/24/17.

Docket Numbers: ER18-232-000.

Applicants: Southwest Power Pool, Inc.

Description: § 205(d) Rate Filing: Tariff Clean-Up Filing to Remove Rejected Tariff Language to be effective 7/15/2017.

Filed Date: 11/2/17.

Accession Number: 20171102-5162.

Comments Due: 5 p.m. ET 11/24/17.

Docket Numbers: ER18-233-000.

Applicants: AEP Texas Inc.

Description: § 205(d) Rate Filing: AEP TX-LCRA Interconnection Agreement Second Amend & Restated to be effective 10/3/2017.

Filed Date: 11/2/17.

Accession Number: 20171102-5210.

Comments Due: 5 p.m. ET 11/24/17.

Docket Numbers: ER18-234-000.

Applicants: GSP Newington LLC.

Description: Baseline eTariff Filing: Newington MBR Filing to be effective 12/28/2017.

Filed Date: 11/2/17.

Accession Number: 20171102-5234.

Comments Due: 5 p.m. ET 11/24/17.

Docket Numbers: ER18-235-000.

Applicants: AEP Texas Inc.

Description: § 205(d) Rate Filing: AEP TX-Bruenning's Breeze Wind Interconnection Agreement Second Amend & Restated to be effective10/12/2017.

Filed Date: 11/2/17.

Accession Number: 20171102-5236.

Comments Due: 5 p.m. ET 11/24/17.

Docket Numbers: ER18-236-000.

Applicants: GSP Merrimack LLC.

Description: Baseline eTariff Filing: Merrimack MBR Filing to be effective 12/28/2017.

Filed Date: 11/2/17.

Accession Number: 20171102-5237.

Comments Due: 5 p.m. ET 11/24/17.

Docket Numbers: ER18-237-000.

Applicants: GSP White Lake LLC.

Description: Baseline eTariff Filing: White Lake MBR Filing to be effective 12/28/2017.

Filed Date: 11/2/17.

Accession Number: 20171102-5240.

Comments Due: 5 p.m. ET 11/24/17.

Docket Numbers: ER18-238-000.

Applicants: GSP Schiller LLC.

Description: Baseline eTariff Filing: Schiller MBR Filing to be effective12/28/2017.

Filed Date: 11/2/17.

Accession Number: 20171102-5241.

Comments Due: 5 p.m. ET 11/24/17.

Docket Numbers: ER18-239-000.

Applicants: GSP Lost Nation LLC.

Description: Baseline eTariff Filing: Lost Nation MBR Filing to be effective 12/28/2017.

Filed Date: 11/2/17.

Accession Number: 20171102-5243.

Comments Due: 5 p.m. ET 11/24/17.

Docket Numbers: ER18-240-000.

Applicants: Metcalf Energy Center, LLC.

Description: Baseline eTariff Filing: Metcalf RMR Agreement Filing to be effective 1/1/2018.

Filed Date: 11/2/17.

Accession Number: 20171102-5246.

Comments Due: 5 p.m. ET 11/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2017.
Kimberly D. Bose,
Secretary.

[FR Doc. 2017-24269 Filed 11-7-17; 8:45 am]

BILLING CODE 6717-01-P